DEPARTMENT OF TRANSPORTATION

Federal Aviation Administration

[Docket No. FAA-2023-0474]

Agency Information Collection Activities: Requests for Comments; Clearance for a Renewed Information Collection: Privacy International Civil Aviation Organization (ICAO) Address

AGENCY: Federal Aviation Administration (FAA), DOT.

ACTION: Notice and request for comments.

SUMMARY: In accordance with the Paperwork Reduction Act of 1995, FAA invites public comments about our intention to request the Office of Management and Budget (OMB) approval to renew an information collection. The collection involves an aircraft operator's request for a privacy ICAO address through a web-based application process. The information to be collected is necessary to qualify for the authorized use of the privacy ICAO address services and for monitoring to support continued airworthiness and enforcement activities.

DATES: Written comments should be submitted by May 1, 2023.

ADDRESSES: Please send written comments:

By Electronic Docket: www.regulations.gov (Enter docket number into search field).

By mail: Send comments to FAA at the following address: Mr. Evan Setzer, Program Manager, Surveillance and Broadcast Services, AJM-42, Program Management Organization, Federal Aviation Administration, 600 Independence Ave. SW, Wilbur Wright Building, Washington, DC 20597.

By fax: 202-267-1277 (Attention: Mr. Evan Setzer, Program Manager, Surveillance and Broadcast Services, AJM-42, Program Management Organization, Federal Aviation Administration).

FOR FURTHER INFORMATION CONTACT: For technical questions concerning this action, contact Mr. Jamal A. Wilson, Surveillance and Broadcast Services, AJM 42, PIA Project Lead at jamal.wilson@faa.gov or at (202)267-4301.

SUPPLEMENTARY INFORMATION:

Public Comments Invited

You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection renewal.

OMB Control Number: 2120-0779.

Title: Privacy International Civil Aviation Organization (ICAO) Address Program.

Form Numbers: Not applicable.

Type of Review: Renewal of an information collection.

Background: In 2010, the FAA issued a final rule mandating equipage requirements and performance standards for Automatic Dependent Surveillance-Broadcast (ADS-B) Out avionics on aircraft operating in certain airspace after December 31, 2019. Aircraft operators must be equipped with ADS-B Out to fly in most controlled airspace. Federal Regulations 14 CFR 91.225 and 14 CFR 91.227 contain requirement details. Each registered aircraft is assigned an aircraft registration number and an ICAO 24-bit aircraft address. This is also referred to as a “Mode S Code” in some FAA documents and websites, including the FAA Aircraft Registry. Where a 1090- MHz Extended Squitter (1090ES) transponder is required for ADS-B Out compliance, this ICAO 24-bit aircraft address, based on current transponder avionics standards, is openly broadcasted on the 1090 MHz frequency in transponder replies and ADS-B messages. Subsequently, the nature of openly broadcasting makes the identity of the aircraft publicly available. Industry stakeholders have long suggested that FAA develop a process for aircraft operators who seek anonymity such that their aircraft movements and identity cannot be traced or seen by privately owned sensors that monitor the 1090 MHz frequency and combine this with other downlinked ADS-B and Mode S data being disseminated using the internet. The FAA intends to develop a process for operators who wish to mask their aircraft movements and identity for a period while flying within the sovereign airspace of the United States. Participation in the assignment of privacy ICAO Code addresses is voluntary. Only U.S. registered aircraft can be assigned a privacy ICAO aircraft address. No operator can use a privacy ICAO aircraft address for a U.S.-registered aircraft unless that operator is authorized to use a third-party flight identification for that same aircraft. No unique privacy ICAO address will be assigned to more than one U.S.-registered aircraft at any given time. Once approved, the operator will be assigned a privacy ICAO address. The operator will be required to notify the FAA when their avionics have been loaded with the assigned temporary ICAO 24-bit aircraft address. Owners and operators must verify that the ICAO 24-bit aircraft address (Mode S code) broadcast by their ADS-B equipment matches the assigned privacy ICAO address for their aircraft. Operators can verify what ICAO 24-bit aircraft address is being broadcast by their aircraft by visiting: https://adsbperformance.faa.gov/PAPRRequest.aspx. For monitoring privacy ICAO address use, the information will be downloaded by the FAA and entered into the FAA's ADS-B Performance Monitor [Docket No. FAA-2017-1194 published in Federal Register, December 20, 2017, as Document Number: 2017-27202].

Information Collected: Information collected by privacy ICAO address program includes aircraft registration number, permanent ICAO address, and aircraft owner's information to include phone number, email address, and physical address.

Respondents: Intended for operators who seek anonymity such that their aircraft movements and identity cannot be easily traced or seen by privately owned sensors that monitor the 1090 MHz frequency. FAA estimates up to 15,000 respondents.

Frequency: Frequency will be occasional based on specific scenarios. An operator can change privacy ICAO aircraft addresses, but no more often than once every 20 days. In the event real-world security concerns become evident, an operator can elect to change their PIA address sooner than 20 days.

Estimated Average Burden per Response: Approximately 15 minutes per application.

Estimated Total Annual Burden: 12,563 hours.

Issued in Washington, DC, on February 22, 2023.
Stanton Brunner,
Program Manager for Service Performance and Sustainment Team (AJM-422), Federal Aviation Administration.

[FR Doc. 2023-04021 Filed 2-27-23; 8:45 am]

BILLING CODE 4910-13-P